DEPARTMENT OF LABOR

Office of the Secretary

All Items Consumer Price Index for All Urban Consumers; United States City Average

Pursuant to Section 112 of the 1976 amendments to the Federal Election Campaign Act, 52 U.S.C. 30116(c), the Secretary of Labor has certified to the Chairman of the Federal Election Commission and publishes this notice in the Federal Register that the United States City Average All Items Consumer Price Index for All Urban Consumers (1967 = 100) increased 409.3 percent from its 1974 annual average of 147.7 to its 2018 annual average of 752.205 and that it increased 41.8 percent from its 2001 annual average of 530.4 to its 2018 annual average of 752.205. Using 1974 as a base (1974 = 100), I certify that the United States City Average All Items Consumer Price Index for All Urban Consumers thus increased 409.3 percent from its 1974 annual average of 100 to its 2018 annual average of 509.279. Using 2001 as a base (2001 = 100), I certify that the United States City Average All Items Consumer Price Index for All Urban Consumers increased 41.8 percent from its 2001 annual average of 100 to its 2018 annual average of 141.818. Using 2006 as a base (2006 = 100), I certify that the Consumer Price Index increased 24.6 percent from its 2006 annual average of 100 to its 2018 annual average of 124.558.

Signed at Washington, DC, on May 21, 2019.
R. Alexander Acosta,
Secretary of Labor.

[FR Doc. 2019-11513 Filed 5-31-19; 8:45 am]

BILLING CODE 4510-24-P